DEPARTMENT OF THE INTERIOR

Fish and Wildlife Service

Intent To Prepare a Draft Environmental Impact Report/Environmental Impact Statement for the Buena Vista Lagoon Restoration Project, San Diego County, CA

AGENCY: Fish and Wildlife Service, Interior.

ACTION: Notice of intent.

SUMMARY: We, the Fish and Wildlife Service (Service), the California Department of Fish and Game (CDFG), and the State Coastal Conservancy (SCC) are announcing our intent to prepare a joint Draft Environmental Impact Report/Environmental Impact Statement (DEIR/DEIS) for the proposed restoration of approximately 200 acres (81 hectares) of wetland habitat at Buena Vista Lagoon, a coastal lagoon in the cities of Carlsbad and Oceanside, CA. The Buena Vista Lagoon is a State Ecological Reserve, managed by the CDFG. It is bordered by the Pacific Ocean on the west, Vista Way/State Highway 78 on the north, and Jefferson Street on the east and south. The proposed action, for purposes of environmental analysis, is restoration of the Buena Vista Lagoon to a predominantly tidal saltwater system to increase shorebird and marine fish habitat, while taking advantage of the lagoon basin bathymetry to protect and enhance existing freshwater habitat at the lagoon's upper (easterly) end that supports sensitive bird species. The DEIR/DEIS is being developed to assess the impacts of various lagoon restoration alternatives as discussed below and further identified during the public scoping process.

DATES: A public scoping meeting to receive input on topics, issues, and alternatives for the DEIS/DETR is scheduled for April 18, 2007, from 6:30 p.m. to 8 p.m. Written comments will be accepted until close of business on April 20, 2007. See ADDRESSES section below for information on submitting comments.

ADDRESSES: The public scoping meeting will be held at the City of Carlsbad, Faraday Building, Room 173 A & B, 1635 Faraday Avenue, Carlsbad, CA 92008. Written comments should be addressed to the Coastal Program Coordinator, Carlsbad Fish and Wildlife Office, 6010 Hidden Valley Road, Carlsbad, CA 92011. Written comments may be sent by facsimile to 760-431-5901. Comments may be submitted by electronic mail (e-mail) to: fw8cfwocomments@fws.gov. Please include “Public Comments on the Buena Vista Lagoon Restoration NOI” in the subject line of the email and your name and return address in the body of your e-mail message.

FOR FURTHER INFORMATION CONTACT: Jack Fancher, Coastal Program Coordinator, Carlsbad Fish and Wildlife Office, 760-431-9440 extension 215.

SUPPLEMENTARY INFORMATION: Several Federal, state, and local agencies, and citizen groups are jointly proposing a project to restore approximately 200 acres (81 hectares) of wetland habitant at Buena Vista Lagoon. Historically (e.g., pre-1940s), the lagoon was in a dynamic equilibrium between a tidal-influenced saltwater system during dry conditions and a river-influenced freshwater system during wet weather. Over time, the lagoon has been converted to a freshwater system as a result of highway, roadway, and railroad construction and installation of a weir. Buena Vista Lagoon has been progressively degrading in terms of its value to biological communities, habitats, and human uses. Without restoration, it would most likely become a vegetated freshwater marsh or riparian woodland-meadow within the next 30 to 50 years. This degradation would reduce or eliminate wetland functions and values, and result in greater concerns about mosquitoes, water quality impairment, and impacts to aesthetic resources. Creation of a predominantly saltwater regime would be achieved through elimination and disposal of existing freshwater vegetation (principally cattails), dredging and disposal to remove excess sediment (up to approximately 2 million cubic yards), and establishment of continuous tidal exchange through an ocean inlet/outlet. Dredging would create elevations for intertidal salt marsh and eelgrass habitats. An existing 50-foot wide weir would be removed and an open channel would be constructed to provide continuous tidal exchange between the lagoon and the Pacific Ocean. Depending on the final distribution of habitats to be created and inlet maintenance considerations, the ocean inlet/outlet may require stabilization with one or two jetties of similar length to those constructed farther south in the City of Carlsbad for the Batiquitos Lagoon inlet/outlet. Various scenarios of habitat creation and lagoon flow characteristics would influence which potential infrastructure modifications may be considered for the three action alternatives. Potential modifications may include changes to the existing bridges over the lagoon for U.S. Interstate 5 (I-5), a railroad, and Carlsbad Boulevard (“Coast Highway”), along with culverts and/or a weir.

Guidelines under the National Environmental Policy Act (NEPA) (40 CFR 1502.14[a]) and the California Environmental Quality Act (CEQA) (Public Resources Code, Section 21000-21177) require that an EIR and a EIS examine alternatives to a project in order to explore a reasonable range of alternatives that fulfill the project's purpose, while reducing potentially significant environmental impacts. A series of Technical Advisory Committee (TAC) meetings and informal public meetings/workshops were held over the past few years to solicit input on the development of project alternatives. Three public meetings were held between June 2002 and April 2004 with the last meeting held on April 8, 2004. Further, a comprehensive Feasibility Analysis funded by the SCC was completed in 2004 by Everest International Consultants, Inc. This analysis documented the general engineering feasibility and associated potential environmental impacts and considerations for a full range of hydrologic regimes and alternatives. Based on this analysis and input from the public and the TAC, alternatives that will receive detailed analysis in the DEIR/DEIS, are: (a) Proposed Action; (b) Restore and Enhance the Existing Freshwater Regime; (c) Create a Mixed Saltwater-Freshwater Regime; and (d) No Project/No Acton.

The alternative to Restore and Enhance the Existing Freshwater Regime would focus on elimination and disposal of some existing freshwater vegetation to help restore flow conditions, and dredging and disposal to remove excess sediment necessary for creation of freshwater habitat and two islands to provide riparian forest and fringing upland habitat. Additionally, channel enhancement would be provided to improve water flow and circulation, and the existing 50-foot wide weir would be replaced with a larger-width weir at the ocean outlet. No structural modifications would occur to the existing I-5, railroad, or Coast Highway crossings over the lagoon.

The alternative to Create a Mixed Saltwater-Freshwater Regime would focus on elimination and disposal of some existing freshwater vegetation to help restore flow conditions, dredging and disposal to remove excess sediment necessary for creation of saltwater habitat and eelgrass habitat west of I-5, and shallow freshwater habitat east of I-5. The existing weir would be replaced with an ocean inlet/outlet to provide continuous tidal exchange between the western portion of the lagoon and the ocean, and a new weir would be constructed under I-5 to maintain a freshwater basin east of the freeway. As noted for the proposed action, the ocean inlet/outlet may require stabilization with one or two jetties, and various scenarios of habitat creation and lagoon flow characteristics would influence considerations for modifying lagoon crossings to optimize tidal exchange, such as related to I-5, railroad, and Coast Highway bridges.

The No Project/No Action alternative would not involve any restoration or enhancement of the lagoon.

Written comments from interested parties are welcome to ensure that issues of public concern related to the proposed action are identified. Comments and materials received will be available for public inspection, by appointment, during normal business hours at the Carlsbad Fish and Wildlife Office (see ADDRESSES above). Comments will also be accepted at the public scoping meting (see DATES).

Our practice is to make comments, including names, home addresses, home phone numbers, and email addresses of respondents, available for public review. Individual respondents may request that we withhold their names and/or homes addresses, etc., but if you wish is to consider withholding this information you must state this prominently at the beginning of your comments. In addition, you must present a rationale for withholding this information. This rationale must demonstrate that disclosure would constitute a clearly unwarranted invasion of privacy. We will always make submissions from organization or businesses, and from individuals identifying themselves as representatives of or officials of organizations or businesses, available for public inspection in their entirety.

The environmental review of this project will be conducted in accordance with the requirements of the NEPA of 1969 as amended (42 U.S.C. 4321 et seq.), Council on Environmental Quality regulations (40 CFR parts 1500-1518), other applicable Federal laws and regulations, and applicable policies and procedures of the Service. This notice is being furnished in accordance with 40 CFR 1501.7 to obtain suggestions and information from other agencies and the public on the scope of issues and alternatives to be addressed in the DEIR/DEIS.

Dated: March 14, 2007.
Ken McDermond,
Deputy Manager, California/Nevada Operations Office, Sacramento, California.

[FR Doc. 07-1373 Filed 3-20-07; 8:45 am]

BILLING CODE 4310-55-M